DEPARTMENT OF THE INTERIOR

Bureau of Indian Affairs

25 CFR Chapter 1

Meeting of the No Child Left Behind Negotiated Rulemaking Committee

AGENCY: Bureau of Indian Affairs, Interior.

ACTION: Announcement of negotiated rulemaking committee meeting.

SUMMARY: The Secretary of the Interior has established an advisory Committee to develop recommendations for proposed rules for Indian education under the No Child Left Behind Act of 2001. As required by the Federal Advisory Committee Act, we are announcing the date and location of the next meeting of the No Child Left Behind Negotiated Rulemaking committee.

DATES: The Committee's next meeting will be held February 2-7, 2004. The meeting will begin at 8:30 pm (PST) on Monday, February 2 and end at 5 pm (PST) on Saturday, February 7, 2004.

ADDRESSES: The meeting will be held at the San Diego Mission Bay Hilton, 901 Camino Del Rio South, San Diego, California 82108, telephone (619) 543-9000.

FOR FURTHER INFORMATION CONTACT: Shawna Smith, No Child Left Behind Negotiated Rulemaking Project Management Office, P.O. Box 1430, Albuquerque, NM 87103-1430; telephone (505) 248-7241/6569; fax (505) 248-7242; email ssmith@bia.edu. We will post additional information as it becomes available on the Office of Education Programs Web site under “Negotiated Rulemaking” at http//www.oiep.bia.edu.

SUPPLEMENTARY INFORMATION: The Secretary, after consultation with the tribes, has revised the charter of the negotiated rulemaking committee established to negotiate regulations to implement the No Child Left Behind Act of 2001 (Pub. Law 107-110). Under this revised charter, the committee will negotiate new regulations covering Closure or Consolidation of Schools (Section 1121(d)) and National Criteria for Home Living Situations (Section 1122). For more information on negotiated rulemaking under the No Child Left Behind Act, see the Federal Register notices published on December 10, 2002 (67 FR 75828) and May 5, 2003 (68 FR 23631) or the Web site at http//www.oiep.bia.edu under “Negotiated Rulemaking.”

There is no requirement for advance registration for members of the public who wish to attend and observe the Committee meeting or any work group meetings. Members of the public may make written comments on the above-listed items to the Committee by sending them to the NCLB Negotiated Rulemaking Committee, Project Management Office, P.O. Box 1430, Albuquerque, New Mexico 87103. We will provide copies of the comments to the Committee.

The agenda for the February 2-7, 2004, meeting is as follows:

No Child Left Behind Negotiated Rulemaking Committee February 2-7, 2004, Hilton San Diego Mission Valley, San Diego, CA

Agenda

Purpose of Meeting: Develop recommendations for proposed rules under two sections of the No Child Left Behind Act of 2001—Sections 1121(d) and 1122.

(Breaks at 10 a.m. and 3 p.m. each day and lunch from 12 p.m.-1:30 p.m.)

Monday, February 2, 2004

8:30 a.m.

Opening Remarks

Introductions, Logistics, and Housekeeping

Review and Recommitment to Ground Rules

Update on First 6 Rules

Review Agenda

9 a.m.

Public Comments

9:30 a.m.-5 p.m.

Closure or Consolidation of Schools

Section 1121(d) of the No Child Left Behind Act of 2001

Tuesday, February 3, 2004

8:30 a.m.

Public Comments

9 a.m.

Housekeeping

9:30 a.m.-5 p.m.

National Criteria for Home-Living Situations—Section 1122 of the No Child Left Behind Act of 2001

Wednesday, February 4, 2004

8:30 a.m.

Public Comments

9 a.m.-5 p.m.

National Criteria for Home-Living Situations—Section 1122 of the No Child Left Behind Act of 2001

Thursday, February 5, 2004

8:30 a.m.

Public Comment

9 a.m.-5 p.m.

National Criteria for Home-Living Situations—Section 1122 of the No Child Left Behind Act of 2001

Friday, February 6, 2004

8:30 a.m.

Public Comment

9 a.m.-5 p.m.

National Criteria for Home-Living Situations—Section 1122 of the No Child Left Behind Act of 2001

Saturday, February 7, 2004

8:30 a.m.

Public Comment

9 a.m.

National Criteria for Home-Living Situations—Section 1122 of the No Child Left Behind Act of 2001

5 p.m.

Clarification of next steps

Evaluations

Closing remarks

Adjourn

Dated: January 8, 2004.
Aurene M. Martin,
Principal Deputy Assistant Secretary—Indian Affairs.

[FR Doc. 04-858 Filed 1-14-04; 8:45 am]

BILLING CODE 4310-02-M